DEPARTMENT OF AGRICULTURE

Forest Service

Salmon-Challis National Forest; Idaho; Plan Development

AGENCY: Forest Service, USDA.

ACTION: Notice of intent to initiate the plan development phase of the land management plan revision for the Salmon-Challis National Forest.

SUMMARY: The Salmon-Challis National Forest is initiating the land management planning process pursuant to the 2012 Planning Rule. This process will result in a revised land management plan that describes the strategic direction for management of forest resources for the next 10 to 15 years on the Salmon-Challis National Forest. The Salmon-Challis is inviting the public to help us identify the need to change the existing Challis and Salmon Land Management Plans, as well as, the appropriate plan components that will become a proposed action for the land management plan revision.

DATES: The assessment for the Salmon-Challis National Forest was completed July 19, 2018, and posted on the web at http://bit.ly/SCNF_Final_Assessment.

From November 2018 through February 2019, the public is invited to engage in a collaborative process to identify the primary concepts to be considered for the proposed action and associated plan components. The Salmon-Challis will then initiate procedures pursuant to the National Environmental Policy Act (NEPA) and prepare a revised land management plan.

ADDRESSES: Send written comments or questions concerning this notice to Salmon-Challis National Forest, Attn.: Plan Revision, 1206 South Challis Street, Salmon, Idaho, 83467. Comments may also be sent via email to scnf_plan_rev@fs.fed.us.

FOR FURTHER INFORMATION CONTACT: Josh Milligan, Planning Team Leader, 208-756-5560. Individuals who use telecommunication devices for the deaf (TDD) may call the Federal Information Relay Service (FIRS) at 1-800-877-8339 between 8 a.m. and 8 p.m., Eastern Time, Monday through Friday. More information on the planning process can also be found on the Salmon-Challis National Forest website at https://www.fs.usda.gov/detail/scnf/landmanagement/planning/?cid=fseprd544724.

SUPPLEMENTARY INFORMATION: The National Forest Management Act (NFMA) of 1976 requires that every National Forest System (NFS) unit develop a land management plan. The 2012 Planning Rule (36 CFR 219) provides broad programmatic direction to national forests and national grasslands for developing and implementing their land management plans. These plans describe the strategic direction for management of forest resources for ten to fifteen years, and are adaptive and amendable as conditions change over time.

Under the 2012 Planning Rule, the assessment of ecological, social, and economic trends and conditions is the first stage of the planning process. The assessment phase began in January 2018 and interested parties were invited to contribute in the development of the assessment (36 CFR 219.6). The Salmon-Challis hosted several public meetings and on-line webinars throughout the assessment phase. The assessment was completed in July 2018. The trends and conditions identified in the assessment will help to develop the needs for change and the development of plan components.

The second stage is a development and decision process guided, in part, by NEPA and includes the preparation of a draft environmental impact statement and revised land management plan for public review and comment, and the preparation of the final environmental impact statement and revised land management plan. The third stage of the process is monitoring and feedback, which is ongoing over the life of the revised plan.

With this notice, the agency invites other governments, non-governmental parties, and the public to contribute to the development of the proposed action. The intent of public engagement during development of the proposed action is to identify the appropriate plan components that the Forest Service should consider in developing its land management plan. We encourage contributors to share material about desired conditions, standards and guidelines, land suitability determinations, management area designations, and plan monitoring.

Collaboration in the development of the proposed action supports the development of relationships of key stakeholders throughout the plan development process and is an essential step to understanding current conditions, available data, and feedback needed to support a strategic, efficient planning process.

As public meetings, other opportunities for public engagement, and public review and comment opportunities are identified to assist with the development of the land management plan revision, public announcements will be made, notifications will be posted on the Salmon-Challis website at https://www.fs.usda.gov/detail/scnf/landmanagement/planning/?cid=fseprd544724, and information will be sent out to the Salmon-Challis land management plan revision mailing list.

If anyone is interested in being on the Salmon-Challis land management plan revision mailing list to receive these notifications, please contact Planning Team Leader Josh Milligan at the mailing address identified above, by sending an email to scnf_plan_rev@fs.fed.us, or by telephone at 208-756-5560.

Responsible Official

The responsible official for the revision of the Salmon-Challis National Forest Land Management Plan is Chuck Mark, Forest Supervisor, Salmon-Challis National Forest, 1206 South Challis Street, Salmon, Idaho, 83467.

Dated: October 4, 2018.
Allen Rowley,
Acting Associate Deputy Chief, National Forest System.

[FR Doc. 2018-25057 Filed 11-15-18; 8:45 am]

BILLING CODE 3411-15-P